DEPARTMENT OF THE INTERIOR

National Park Service

Jackson Hole Airport Agreement Extension, Final Environmental Impact Statement, Grand Teton National Park, Wyoming

AGENCY: National Park Service, Department of the Interior.

ACTION: Notice of Availability of the Final Environmental Impact Statement for the Jackson Hole Airport Agreement Extension, Grand Teton National Park.

SUMMARY: Pursuant to the National Environmental Policy Act of 1969, 42 U.S.C. 4332(2)(C), the National Park Service announces the availability of a Final Environmental Impact Statement for the Jackson Hole Airport Agreement Extension, Grand Teton National Park, Wyoming. This effort addresses a request from the Jackson Hole Airport Board to amend the agreement between the Department of the Interior and the Airport Board in order to ensure that the airport remains eligible for funding through the Federal Aviation Administration (FAA). The proposal would allow the agreement to be amended to provide two additional 10-year options that could be exercised by the Board, the first in 2013 and the second in 2023. By exercising these options, the Board would ensure that the airport remains eligible for Airport Improvement Program grants from the FAA, upon which commercial airports are dependent. These grants provide funds for projects such as maintenance of the runway and taxiways, purchase of capital equipment such as snowplows and fire engines, and other projects necessary for the airport to retain its certification as a commercial airport. Without such funds, the airport would at some point be unable to retain its certification and all commercial air service would be terminated.

Alternatives considered in the EIS include Alternative 1: No Action—The airport would continue operations under the existing Agreement which currently has an expiration date of April 27, 2033; and Alternative 2: Extend Agreement—This alternative would amend the text of the 1983 Agreement to provide the Jackson Hole Airport Board with options for two additional 10-year terms. The proposed amendment would also add language to the Agreement strengthening the requirements of the Airport Board to work in good faith to further reduce and mitigate the impacts of the airport on the park to the lowest practicable level, consistent with the safe and efficient operation of the airport and within applicable laws and regulations. In addition, the Agreement would require the Airport Board to prepare a biennial report of its operations and accomplishments, including efforts to mitigate its impacts, and to periodically review the terms of the Agreement with the NPS at least every five years. Alternative 2 is the Preferred Alternative.

DATES: The National Park Service will execute a Record of Decision (ROD) no sooner than 30 days following publication by the Environmental Protection Agency of the Notice of Availability of the Final Environmental Impact Statement.

ADDRESSES: Information will be available for public inspection online at http://parkplanning.nps.gov/GRTE, in the office of the Superintendent, Mary Gibson Scott, Grand Teton National Park, P.O. Drawer 170, Moose, Wyoming.

FOR FURTHER INFORMATION CONTACT: Gary Pollock, Grand Teton National Park, P.O. Drawer 170, Moose, Wyoming, 307-739-3410, gary_pollock@nps.gov.

Dated: September 17, 2010.
John Wessels,
Regional Director, Intermountain Region, National Park Service.

[FR Doc. 2010-24789 Filed 10-1-10; 8:45 am]

BILLING CODE P